DEPARTMENT OF TRANSPORTATION

Federal Transit Administration

49 CFR Part 665

[Docket No. FTA-2011-0015]

RIN 2132-AB01

Bus Testing: Calculation of Average Passenger Weight and Test Vehicle Weight

AGENCY: Federal Transit Administration (FTA), DOT.

ACTION: Notice of withdrawal.

SUMMARY: This action withdraws a notice of proposed rulemaking (NPRM) that would have amended the Federal Transit Administration's (FTA's) bus testing regulation to increase the assumed average passenger weight value used for ballasting test buses from the current value of 150 pounds to a new value of 175 pounds. This increase was proposed to better reflect the actual weight of the average American adult and to provide accurate information to the transit agencies that purchase such vehicles. In light of recent legislation directing FTA to establish new pass/fail standards that require a more comprehensive review of its overall bus testing program, FTA is withdrawing the rulemaking.

FOR FURTHER INFORMATION CONTACT: For technical information, Gregory Rymarz, Bus Testing Program Manager, Office of Research, Demonstration, and Innovation (TRI), (202) 366-6410, Gregory.rymarz@dot.gov. For legal information, Richard Wong, Office of the Chief Counsel (TCC), (202) 366-0675, richard.wong@dot.gov.

SUPPLEMENTARY INFORMATION: Pursuant to section 317 of the Surface Transportation and Uniform Relocation Act of 1987 (Pub. L. 100-17), now codified at 49 U.S.C. 5318, FTA established a bus testing program to ensure that buses procured with FTA financial assistance could endure the rigors of daily transit service.

In a 2009 rulemaking, FTA established a procedure by which transit vehicles would be tested with a full load of seated and standing passengers, even if that number exceeded the vehicle's Gross Vehicle Weight Rating (GVWR) (74 FR 51083, October 5, 2009). The testing procedure simulated a 150 lb. weight for each seated passenger and a 150 lb. weight for every 1.5 square foot of clear floor space. Given the upward trend in passenger weight estimations then underway by the Federal Aviation Administration and the United States Coast Guard, FTA published a second NPRM in 2011 proposing to change the average passenger weight from 150 lbs. to 175 lbs. and to change the floor space occupied per standing passenger from 1.5 to 1.75 square feet (76 FR 13850, March 14, 2011).

Subsequent to the NPRM, on July 6, 2012, Congress passed the Moving Ahead for Progress in the 21st Century Act (MAP-21) (Pub. L. 112-141). Section 20014 of MAP-21 amended 49 U.S.C. 5318 to require FTA to work with bus manufacturers and transit agencies to establish a new pass/fail standard for the bus testing program, which must include new safety performance standards established by FTA pursuant to 49 U.S.C. 5329(b) (as amended by MAP-21). Accordingly, in view of the mandate to establish a new pass/fail standard which requires a more comprehensive overall review of the bus testing program that satisfies both bus manufacturers and bus buyers, the proposed rule is hereby withdrawn.

Regulatory Impact

Because this action only withdraws a notice of proposed rulemaking, it is neither a proposed nor a final rule and therefore it is not covered under Executive Order 12866, Executive Order 13563, the Regulatory Flexibility Act, or the DOT Regulatory Policies and Procedures (44 FR 11034, February 26, 1979).

List of Subjects in 49 CFR Part 665

Buses, Grant programs—transportation, Public transportation, Motor vehicle safety, Reporting and recordkeeping requirements.

Accordingly, the notice of proposed rulemaking, Docket FTA-2011-0015, published in the Federal Register on March 14, 2011 (76 FR 13580), is withdrawn.

Issued in Washington, DC, on December 10, 2012.
Peter Rogoff,
Administrator.

[FR Doc. 2012-30184 Filed 12-13-12; 8:45 am]

BILLING CODE P